NATIONAL SCIENCE FOUNDATION

Notice of Permit Applications Received Under the Antarctic Conservation Act of 1978 (Pub. L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 8, 2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations established such a permit system to designate Antarctic Specially Protected Areas.

The applications received are as follows:

Permit Application No. 2005-011.

1. Applicant: Scott Borg, Section Head, Antarctic Science Section, Office of Polar Programs, National Science Foundation, 4201 Wilson Boulevard, Arlington, VA 22230.

Activity for Which Permit is Requested: Enter Antarctic Specially Protected Area. The applicant proposes to enter Arrival Heights (ASPA #122 to continue scientific projects already in place, and to conduct projects added during the term of this permit following separate initial environmental review. Principal investigators and their teams will work on projects that include, but not limited to operation of an ELF/VLF receiver, riometer and magnetometer for studies of the earth's magnetic field and ionosphere, high latitude neutral mesospheric and thermospheric dynamics, UV monitoring, aerosols investigations, and pollution surveys. Crary Lab science technicians will access the site daily for equipment monitoring, data acquisition, calibrations, and repairs. In addition, personnel will enter the site to monitor and maintain or repair weather equipment, and personnel from Facilities Engineering and Maintenance may be called upon to perform maintenance or repair functions at the facilities within the ASPA.

Location: Arrival Heights, Ross Island, Antarctica (ASPA #122).

Dates: October 1, 2004 to September 31, 2009.

Permit Application No. 2005-012.

2. Applicant: Yu-Ping Chin, Department of Geological Sciences, The Ohio State University, 275 Mendenhall Laboratory, 125 South Oval Mall, Columbus, OH 43210-1308.

Activity for Which Permit is Requested: Enter Antarctic Specially Protected Area. The applicant plan to Cape Royds (ASPA #121) and Backdoor Bay, Cape Royds (ASPA #157) to access Pony Lake and collect water samples and install monitoring equipment. The samples will be used to study the biogeochemistry of dissolved organic material. The applicant will work closely with an ornithologist working at the site to ensure non-interference with rookery activities.

Location: Cape Royds, Ross Island (ASPA #121) and Backdoor Bay, Cape Royds Ross Island (ASPA #157).

Dates: November 01, 2004 to January 31, 2006.

Permit Application No. 2005-013.

3. Applicant: Rennie S. Holt, Director, U.S. AMLR Program, Southwest Fisheries Science Center, National Marine Fisheries Service, 8604 La Jolla Shores Drive, La Jolla, CA 92038.

Activity for Which Permit is Requested: Take, Enter Antarctic Specially Protected Area, and Import into the U.S. The applicant proposes to enter Cape Sheriff (ASPA #149) to capture up to 30 adult and 50 juvenile Southern Elephant Seals (Mirounga leonina) in order to tag, dye mark, collect blood samples, weigh, conduct morphometric measurements, collect muscle biopsies and instrument with TDR's, and/or ARGOS linked PTT's and VHF's. Data collected will be taken back to the United States. The data and samples will be used to determine the relationship of specific foraging behaviors and habitat utilization.

Location: Antarctic Peninsula region, South Shetland Islands vicinity: Cape Sheriff, Livingston Island (ASPA #149), and including San Telmo Islands.

Dates: November 15, 2004—April 30, 2007.

Nadene G. Kennedy,
Permit Officer, Office of Polar Programs.

[FR Doc. 04-18117 Filed 8-06-04; 8:45 am]

BILLING CODE 7555-01-M